NATIONAL CREDIT UNION ADMINISTRATION

Sunshine Act Meeting

Notice of Change In Subject of Meeting

The National Credit Union Administration Board determined that its business required the deletion of a portion of one of the personnel matters from the previously announced closed meeting (Federal Register, Vol. 65, No. 238, page 77394, December 11, 2000) scheduled for Thursday, December 14, 2000.

The Board voted two-to-one, Board Member Dollar voting no, that agency business required a portion of one of the personnel matters be removed from the closed agenda. Earlier announcement of this change was not possible.

The previously announced items were:

1. Administrative Action under Part 704 of NCUA's Rules and Regulations. Closed pursuant to exemption (8).

2. Administrative Action under Part 708 of NCUA's Rules and Regulations. Closed pursuant to exemption (8).

3. Two (2) Personnel Matters. Closed pursuant to exemptions (2) and (6).

FOR FURTHER INFORMATION CONTACT: Becky Baker, Secretary of the Board, Telephone (703) 518-6304.

Sheila Albin,
Acting Secretary of the Board

[FR Doc. 00-32434 Filed 12-15-00; 4:47 pm]

BILLING CODE 7535-01-M